DEPARTMENT OF TRANSPORTATION

Federal Aviation Administration

14 CFR Part 39

[Docket No. FAA-2006-24092; Directorate Identifier 2006-CE-18-AD; Amendment 39-14682; AD 2006-15-02]

RIN 2120-AA64

Airworthiness Directives; Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 Airplanes

AGENCY: Federal Aviation Administration (FAA), DOT.

ACTION: Final rule.

SUMMARY: We are adopting a new airworthiness directive (AD) that supersedes AD 2003-09-01, which applies to certain Pilatus Aircraft Ltd (Pilatus) Model PC-6 airplanes. AD 2003-09-01 currently requires you to inspect and correct, as necessary, the aileron control bellcrank assemblies at the wing and fuselage locations. Since we issued AD 2003-09-01, the FAA determined the action should also apply to all the models of the PC-6 airplanes listed in the type certificate data sheet of Type Certificate (TC) No. 7A15 that were produced in the United States through a licensing agreement between Pilatus and Fairchild Republic Company (also identified as Fairchild Industries, Fairchild Heli Porter, or Fairchild-Hiller Corporation). In addition, the intent of the applicability of AD 2003-09-01 was to apply to all the affected serial numbers of the airplane models listed in TC No. 7A15. This AD retains all the actions of AD 2003-09-01, adds those Fairchild Republic Company airplanes to the applicability of this AD, and lists the individual specific airplane models. We are issuing this AD to detect and correct increased friction in the aileron control bellcrank assemblies, which could result in failure of the aileron flight-control system. Such failure could lead to problems in controlling flight.

DATES: This AD becomes effective on August 23, 2006.

As of June 17, 2003 (68 FR 22582, April 29, 2003), the Director of the Federal Register previously approved the incorporation by reference of Pilatus Service Bulletin No. 27-001, dated June 5, 2002, in accordance with 5 U.S.C. 552(a) and 1 CFR part 51.

ADDRESSES: To get the service information identified in this AD, contact Pilatus Aircraft Ltd., Customer Liaison Manager, CH-6371 Stans, Switzerland; telephone: +41 41 619 63 19; facsimile: +41 41 619 6224.

To view the AD docket, go to the Docket Management Facility; U.S. Department of Transportation, 400 Seventh Street, SW., Nassif Building, Room PL-401, Washington, DC 20590-001 or on the Internet at http://dms.dot.gov. The docket number is FAA-2006-24092; Directorate Identifier 2006-CE-18-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

On May 3, 2006, we issued a proposal to amend part 39 of the Federal Aviation Regulations (14 CFR part 39) to include an AD that would apply to all the models of the PC-6 airplanes listed in the type certificate data sheet of TC No. 7A15 that were produced in the United States through a licensing agreement between Pilatus and Fairchild Republic Company (also identified as Fairchild Industries, Fairchild Heli Porter, or Fairchild-Hiller Corporation) airplanes. This proposal was published in the Federal Register as a notice of proposed rulemaking (NPRM) on May 9, 2006 (71 FR 26891). The NPRM proposed to supersede AD 2003-09-01 (68 FR 22582, April 29, 2003), add those Fairchild Republic Company airplanes to the applicability of this proposed AD, and would list the individual specific airplane models. The NPRM proposed to retain all of the actions of AD 2003-09-01 for inspecting and correcting, as necessary, the aileron control bellcrank assemblies at the wing and fuselage locations.

Comments

We provided the public the opportunity to participate in developing this AD. We received one comment in favor of the proposed AD.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 49 airplanes in the U.S. registry.

We estimate the following costs to do the inspection and modifications:

Labor cost | Parts cost | Total cost per airplane | Total cost on U.S. operators
7 work-hours × $80 per hour = $560 | $300 | $860 | $860 × 49 = $42,140.

Authority for This Rulemaking

Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24092; Directorate Identifier 2006-CE-18-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2003-09-01, Amendment 39-13130 (68 FR 22582, April 29, 2003), and by adding the following new AD:

2006-15-02 Pilatus Aircraft Ltd.: Amendment 39-14682; Docket No. FAA-2006-24092; Directorate Identifier 2006-CE-18-AD.

Effective Date

(a) This AD becomes effective on August 23, 2006.

Affected ADs

(b) This AD supersedes AD 2003-09-01, Amendment 39-13130.

Applicability

(c) This AD affects the following Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes that are certificated in any category:

(1) Group 1 (maintains the actions from AD 2003-09-01): All manufacturer serial numbers (MSN) up to and including 939.

(2) Group 2: MSN 2001 through 2092.

Note: These airplanes are also identified as Fairchild Republic Company PC-6 airplanes, Fairchild Industries PC-6 airplanes, Fairchild Heli Porter PC-6 airplanes, or Fairchild-Hiller Corporation PC-6 airplanes.

Unsafe Condition

(d) This AD results from mandatory continuing airworthiness information (MCAI) issued by the airworthiness authority for Switzerland that requires retaining the actions of AD 2003-09-01 and adding MSN 2001 through 2092 for all the models of the PC-6 airplanes listed in the type certificate data sheet of Type Certificate No. 7A15. We are issuing this AD to detect and correct increased friction in the aileron control bellcrank assemblies, which could result in failure of the aileron flight-control system. Such failure could lead to problems in controlling flight.

Compliance

(e) To address this problem, you must do the following:

Actions | Compliance | Procedures
(1) Inspect, before removal of the wing bellcrank assemblies, part numbers (P/N) 6132.0071.51 and 6132.0071.52, for installed circlips, P/N N237 (i) If circlips are installed, do the actions required in paragraphs (e)(5) and (e)(6) of this AD (ii) If circlips are not installed, perform all actions required by paragraphs (e)(3), (e)(4), (e)(5), (e)(6), and (e)(7) of this AD | (A) For Group 1 Airplanes: Within the next 100 hours time-in-service (TIS) after June 17, 2003 (the effective date of AD 2003-09-01), unless already done (B) For Group 2 Airplanes: Within the next 100 hours TIS after August 23, 2006 (the effective date of this AD), unless already done | Follow Pilatus Aircraft Ltd. PC-6 Service Bulletin No. 27-001, dated June 5, 2002.
(2) Inspect, before removal of the fuselage bellcrank assembly, P/N 6232.0118.00, for the circlip installed on the housing to prevent axial movement of the bellcrank on its bearing and the flange of the housing to the rear. If the fuselage bellcrank assembly has either no circlip and/or it is not installed as required, perform the actions in paragraphs (e)(8) and (e)(9) of this AD | Before further flight after the inspection required in paragraph (e)(1) of this AD | Follow Pilatus Aircraft Ltd. PC-6 Service Bulletin No. 27-001, dated June 5, 2002.
(3) Remove the wing bellcrank assemblies, P/Ns 6132.0071.51 and 6132.0071.52, and inspect for worn or damaged bearings. Replace worn or damaged bearings | Before further flight after the inspections required in paragraphs (e)(1) and (e)(2) of this AD, as applicable | Follow Pilatus Aircraft Ltd. PC-6 Service Bulletin No. 27-001, dated June 5, 2002.
(4) Stake and lock the bearing in the housing of the wing bellcranks, P/Ns 6132.0071.51 and 6132.0071.52 | Before further flight after the inspections required in paragraphs (e)(1) and (e)(2) of this AD, as applicable | Follow Pilatus Aircraft Ltd. PC-6 Service Bulletin No. 27-001, dated June 5, 2002.
(5) Inspect the wing bellcranks control-cable attachment bolts for correct type and for signs of rub damage on the heads. Replace bolts that are damaged and/or have a total length (including head) of more than 21.5 mm (0.85 in.) | Before further flight after the inspections required in paragraphs (e)(1) and (e)(2) of this AD, as applicable | Follow Pilatus Aircraft Ltd. PC-6 Service Bulletin No. 27-001, dated June 5, 2002.
(6) Inspect the wing bellcranks support plate for signs of rub damage caused by the bolts. If damage is found: (i) Obtain a repair scheme from the manufacturer through FAA at the address specified in paragraph (f) of this AD (ii) Incorporate this repair scheme. | Before further flight after the inspections required in paragraphs (e)(1) and (e)(2) of this AD | Follow Pilatus Aircraft Ltd. PC-6 Service Bulletin No. 27-001, dated June 5, 2002.
(7) Reinstall wing bellcrank assemblies | Before further flight after the inspections required in paragraphs (e)(1) and (e)(2) of this AD | Follow Pilatus Aircraft Ltd. PC-6 Service Bulletin No. 27-001, dated June 5, 2002.
(8) Remove the fuselage bellcrank assembly, P/N 6232.0118.00, and inspect the housing for wear, damage, and signs of axial movement of the bearing in the housing. Replace worn or damaged bearings. If any signs of axial movement of a bearing are found: (i) Obtain a repair scheme from the manufacturer through FAA at the address specified in paragraph (f) of this AD (ii) Incorporate this repair scheme. | Before further flight after the inspections required in paragraphs (e)(1) and (e)(2) of this AD | Follow Pilatus Aircraft Ltd. PC-6 Service Bulletin No. 27-001, dated June 5, 2002.
(9) Reinstall the fuselage bellcrank assembly. Ensure that the fuselage bellcrank assembly is installed so that the surface of the bellcrank with the flange of the housing is installed to the rear. The effect of this is to lock the bellcrank on the bearing tube and thus prevent movement | Before further flight after the inspections required in paragraphs (e)(1), (e)(2), and (e)(8) of this AD | Follow Pilatus Aircraft Ltd. PC-6 Service Bulletin No. 27-001, dated June 5, 2002.
(10) Do not install any bellcrank assemblies, P/Ns 6132.0071.51, 6132,0071.52, and 6232.0118.00 (or FAA-approved equivalent part numbers), unless the aileron assembly has been inspected, modified, and installed | (A) For Group 1 Airplanes: As of June 17, 2003 (the effective date of AD 2003-09-01) (B) For Group 2 Airplanes: As of August 23, 2006 (the effective date of this AD), unless already done | Follow Pilatus Aircraft Ltd. PC-6 Service Bulletin No. 27-001, dated June 5, 2002.

(f) Axial movement of serviceable bearings in the housings of the wing bellcranks is permitted provided no wear or damage to the bearing is found.

(g) Any sign of axial movement of a bearing in the housing of the fuselage bellcrank assembly requires that you obtain a repair scheme from the manufacturer through FAA at the address specified in paragraph (i) of this AD and incorporate the repair scheme.

(h) 14 CFR 21.303 allows for replacement parts through parts manufacturer approval (PMA). The phrase “or FAA-approved equivalent part number” in this AD is intended to signify those parts that are PMA approved through identicality to the design of the part under the type certificate and replacement parts to correct the unsafe condition under PMA (other than identicality). If parts are installed that are identical to the unsafe parts, then the corrective actions of the AD affect these parts also. In addition, equivalent replacement parts to correct the unsafe condition under PMA (other than identicality) may also be installed provided they meet current airworthiness standards, which include those actions cited in this AD.

Alternative Methods of Compliance (AMOCs)

(i) The Manager, Standards Office, ATTN: Doug Rudolph, Aerospace Engineer, FAA, Small Airplane Directorate, 901 Locust, Room 301, Kansas City, Missouri 64106; telephone: (816) 329-4059; facsimile: (816) 329-4090, has the authority to approve AMOCs for this AD, if requested using the procedures found in 14 CFR 39.19.

(j) AMOCs approved for AD 2003-09-01 are approved for this AD.

Related Information

(k) Swiss AD Number HB 2005-289, effective date August 23, 2005, also addresses the subject of this AD.

Material Incorporated by Reference

(l) You must do the actions required by this AD following the instructions in Pilatus Aircraft Ltd. PC-6 Service Bulletin No. 27-001, dated June 5, 2002.

(1) As of June 17, 2003 (68 FR 22582, April 29, 2003), the Director of the Federal Register previously approved the incorporation by reference of Pilatus Service Bulletin No. 27-001, dated June 5, 2002, in accordance with 5 U.S.C. 552(a) and 1 CFR part 51.

(2) To get a copy of this service information, contact Pilatus Aircraft Ltd., Customer Liaison Manager, CH-6371 Stans, Switzerland; telephone: +41 41 619 63 19; facsimile: +41 41 619 6224. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-24092; Directorate Identifier 2006-CE-18-AD.

Issued in Kansas City, Missouri, on July 10, 2006.
Steven W. Thompson,
Acting Manager, Small Airplane Directorate, Aircraft Certification Service.

[FR Doc. E6-11333 Filed 7-18-06; 8:45 am]

BILLING CODE 4910-13-P